DEPARTMENT OF DEFENSE

Office of the Secretary

Meeting of the National Commission on the Structure of the Air Force

AGENCY: Director of Administration and Management, DoD.

ACTION: Notice of Advisory Committee Meeting.

SUMMARY: Under the provisions of the Federal Advisory Committee Act (FACA) of 1972 (5 U.S.C., Appendix, as amended), the Government in the Sunshine Act of 1976 (5 U.S.C. 552b, as amended), and 41 CFR 102-3.150, the Department of Defense (DoD) announces that the following Federal advisory committee meeting of the National Commission on the Structure of the Air Force (“the Commission”) will take place.

DATES: Date of Closed Meeting, including Hearing and Commission Discussion: Tuesday, June 25, 2013, from 8:30 a.m. to 5:00 p.m.

ADDRESSES: 2521 South Clark Street, Suite 525, Crystal City, VA 22202.

FOR FURTHER INFORMATION CONTACT: Mrs. Marcia Moore, Designated Federal Officer, National Commission on the Structure of the Air Force, 1950 Defense Pentagon, Room 3A874, Washington, DC 20301-1950. Email: dfoafstrucomm@osd.mil. Desk (703) 545-9113. Facsimile (703) 692-5625.

SUPPLEMENTARY INFORMATION: Purpose of Meeting: The members of the Commission will hear testimony from individual witnesses and then will discuss the information presented at the hearings.

Agenda

June 25, 2013—Closed Meeting, Including Hearing and Commission Discussion: DoD speakers will provide classified information on the roles, missions and capabilities of the various DoD components and how they contribute to the national defense strategy, the integration of force requirements, and DoD's strategies and capabilities to address conflicts and threats. Confirmed speakers include the Chief of the National Guard Bureau, the Director of Cost Assessment and Program Evaluation, and inter-component representatives from the Total Force Task Force. Specific topics include:

1. Defense planning guidance, guidance for Employment of the Force, Global Force Management Implementation guidance, guidance for development of the forces, and the Joint Strategic Capabilities Plan.

2. Combatant Command requirements from operations plans, contingency plans, and Integrated Priority Lists.

3. Rationales for resource decisions contained in the Joint Strategic Planning System, including the Comprehensive Joint Assessment, Joint Combat Capability Assessment, Capabilities Gap Assessment, Chairman's Program Assessment and Chairman's program recommendations, Chairman of the Joint Chiefs of Staff Risk Assessment, Comprehensive Joint Assessment, and Joint Requirements Oversight Council memoranda.

4. Analytical bases, assumptions, and debates that affected the force structure outcome from the Fiscal Year 2013 budget cycle from Presidential budget, program objective memorandum, and resource management decision memoranda.

5. Completed studies, analysis, assessments and evaluations of strategies, plans, programs and budgets for the active, reserve and guard components.

6. Operational readiness data from Status of Resources Training Systems and Defense Readiness Reporting System.

Meeting Accessibility: In accordance with section 10(d) of the FACA, 5 U.S.C. 552b, and 41 CFR 102-3.155, the DoD has determined that the meeting scheduled for June 25, 2013 will be closed to the public. Specifically, the Director of Administration and Management, with the coordination of the DoD FACA Attorney, has determined in writing that this portion of the meeting will be closed to the public because it will discuss classified information and matters covered by 5 U.S.C. 552b(c)(1).

Written Comments: Pursuant to 41 CFR 102-3.105(j) and 102-3.140 and section 10(a)(3) of the FACA, the public or interested organizations may submit written comments to the Commission in response to the stated agenda of the closed meeting or the Commission's mission. The Designated Federal Officer (DFO) will review all submitted written statements. Written comments should be submitted to Mrs. Marcia Moore, DFO, via facsimile or electronic mail, the preferred modes of submission. Each page of the comment must include the author's name, title or affiliation, address, and daytime phone number. All contact information may be found in FOR FURTHER INFORMATION CONTACT.

Due to difficulties beyond the control of the Commission or its DFO, this Federal Register notice for the June 25, 2013 meeting as required by 41 CFR 102-3.150(a) was not met. Accordingly, the Advisory Committee Management Officer for the DoD, pursuant to 41 CFR 102-3.150(b), waives the 15-calendar day notification requirement.

Background: The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) Meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: June 19, 2013.
Aaron Siegel,
Alternate OSD Federal Register Liaison Officer, Department of Defense.

[FR Doc. 2013-15020 Filed 6-21-13; 8:45 am]

BILLING CODE 5001-06-P